DEPARTMENT OF HEALTH AND HUMAN SERVICES

Administration for Children and Families

Submission for OMB Review; Comment Request

Title: Information Collections Related to Reunification Procedures for Unaccompanied Alien Children.

OMB No.: New collection.

Description: Following the passage of the 2002 Homeland Security Act (Pub. L. 107-296), the Administration for Children and Families (ACF), Office of Refugee Resettlement (ORR), is charged with the care and placement of unaccompanied alien children in Federal custody, and implementing a policy for the release of these children, when appropriate, upon the request of suitable sponsors while awaiting immigration proceedings. In order for ORR to make determinations regarding the release of these children, the potential sponsors must meet certain conditions pursuant to section 462 of the Homeland Security Act and the Flores v. Reno Settlement Agreement No. CV85-4544-RJK (C.D. Cal. 1997). ORR considers the suitability of a sponsor based on the sponsor's ability and agreement to provide for the physical, mental and financial well-being of an unaccompanied minor and assurance to appear before immigration courts. To ensure the safety of the children, sponsors must undergo a background check. Suitable sponsors may be parents, close relatives, friends or entities concerned with the child's welfare. In this Notice, ACF announces that it proposes to employ the use of several information collections for recording: (1) The Sponsor's Agreement to Conditions of Release, which collects the sponsor's affirmation to the terms of the release; (2) the Verification of Release, which collects the children's affirmation to the terms of their release; (3) the Family Reunification Packet, which collects information related to the sponsor's ability to provide for the physical, mental and financial well-being of the child(ren) and (4) the Authorization for Release of Information, which collects information to be utilized for a background check.

Respondents: Potential sponsors of unaccompanied alien children and unaccompanied alien children in Federal custody.

Annual Burden Estimates
Instrument | Number of respondents | Number of responses per respondent | Average burden hours per response | Total burden hours
Sponsor's Agreement | 3,000 | 1 | .166666 | 500
Verification of Release | 3,000 | 1 | .166666 | 500
Family Reunification Packet | 3,000 | 20 | .05 | 3,000
Authorization for Release of Information | 3,000 | 12 | .05 | 1,800

Estimated Total Annual Burden Hours: 5,800.

Additional Information: Copies of the proposed collections may be obtained by writing to the Administration for Children and Families, Office of Administration, Office of Information Services, 370 L'Enfant Promenade, SW., Washington, DC 20447, Attn: ACF Reports Clearance Officer. All requests should be identified by the title of the information collection. E-mail address: grjohnsno@acf.hhs.gov.

OMB Comment: OMB is required to make a decision concerning the collection of information between 30 and 60 days after the publication of this document in the Federal Register. Therefore, a comment is best assured of having its full effect if OMB receives it within 30 days of publication. Written comments and recommendations for the proposed information collections should be sent directly to the following: Office of Management and Budget, Paperwork Reduction Project, Attn: Desk Officer for ACF. E-mail address: Katherine T. Astrich@omb.eop.gov.

Dated: March 4, 2005.
Robert Sargis,
Reports Clearance Officer.

[FR Doc. 05-4692 Filed 3-9-05; 8:45 am]

BILLING CODE 4184-01-M